POSTAL SERVICE

39 CFR Part 20

International Mail: New Prices and Fee Changes—Mailing Services

AGENCY: Postal Service™.

ACTION: Final rule.

SUMMARY: The Postal Service will revise Mailing Standards of the United States Postal Service, International Mail Manual (IMM®) throughout various Individual Country Listings (ICLs) to reflect price adjustments for First-Class Mail International® and extra services.

DATES: Effective January 22, 2012.

FOR FURTHER INFORMATION CONTACT: Rick Klutts at (813) 877-0372.

SUPPLEMENTARY INFORMATION: In October 2011, the Postal Service filed a notice of mailing services price adjustments with the Postal Regulatory Commission (PRC), effective on January 22, 2012. On October 24, 2011, the USPS published a proposed rule in the Federal Register (76 FR 65639-65640) with changes that coincide with the price adjustments. This final rule conveys the comments received on the proposal, and the final mailing standards.

Prices are available under Docket Number R2012-3 on the Postal Regulatory Commission's Web site at http://www.prc.gov. Prices are also available on the Postal Explorer® Web site at http://pe.usps.com.

Comments

We received comments from two submitters, both of whom supported the proposed changes.

The Postal Service adopts the following changes to Mailing Standards of the United States Postal Service, International Mail Manual (IMM), which is incorporated by reference in the Code of Federal Regulations. See 39 CFR 20.

List of Subjects in 39 CFR Part 20

Foreign relations, International postal services.

Accordingly, 39 CFR part 20 is amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of the Mailing Standards of the United States Postal Service, International Mail Manual (IMM) as follows:

* * * * *

Mailing Standards of the United States Postal Service, International Mail Manual (IMM)

* * * * *

Individual Country Listings

* * * * *

First-Class Mail International (240)

[For each country that offers First-Class Mail International service, retain the country's Price Group designation (which appears in the “First-Class Mail International” heading), but remove the three price tables for letters, large envelopes (flats), and packages (small packets), and insert text to read as follows:]

For the prices and maximum weights for postcards, letters, large envelopes (flats), packages (small packets), and postcards, see Notice 123—Price List.

* * * * *

[Delete the entry “Postcards (241.22)” and the price for postcards in their entirety.]

* * * * *

Extra Services

Certificate of Mailing (313)

[For each country that offers certificate of mailing service, revise the fees to read as follows:]

| Fee
Individual pieces:
Individual article (PS Form 3817) | $1.15
Firm mailing books (PS Form 3877), per article listed (minimum 3) | 0.44
Duplicate copy of PS Form 3817 or PS Form 3877 (per page) | 1.15
Bulk Quantities:
First 1,000 pieces (or fraction thereof) | 6.70
Each additional 1,000 pieces (or fraction thereof) | 0.80
Duplicate copy of PS Form 3606 | 1.15

* * * * *

International Business Reply Service (382)

[For each country that offers International Business Reply Service, revise the fees to read as follows:]

Fee: Envelopes up to 2 ounces $1.50; Cards $1.00

* * * * *

International Reply Coupons (381)

[For each country that offers international reply coupons, revise the fee to read as follows:]

Fee: $2.20

Registered Mail (330)

[For each country that offers international Registered Mail service, revise the fee to read as follows:]

Fee: $11.75

* * * * *

Restricted Delivery (350)

[For each country that offers international restricted delivery service, revise the fee to read as follows:]

Fee: $4.55

* * * * *

Return Receipt (340)

[For each country that offers international return receipt service, revise the fee to read as follows:]

Fee: $2.35

* * * * *

We will publish an appropriate amendment to 39 CFR part 20 to reflect these changes.

Stanley F. Mires,
Attorney, Legal Policy & Legislative Advice.

[FR Doc. 2011-31327 Filed 12-7-11; 8:45 am]

BILLING CODE 7710-12-P